DEPARTMENT OF DEFENSE

Department of the Navy

Notice of Intent To Grant Partially Exclusive Patent License; Sean Linehan

AGENCY: Department of the Navy, DoD.

ACTION: Notice.

SUMMARY: The invention listed below is assigned to the United States Government as represented by the Secretary of the Navy. The Department of the Navy hereby gives notice of its intent to grant to Sean Linehan a revocable, nonassignable, partially exclusive license to practice in the United States, the Government-owned invention described in U.S. Patent 7,222,525 (Navy Case 84945): Issued May 29, 2007, entitled “SKIN AND TISSUE SIMULANT FOR MUNITIONS TESTING”.

DATES: Anyone wishing to object to the grant of this license must file written objections along with supporting evidence, if any, not later than May 11, 2011.

ADDRESSES: Written objections are to be filed with Naval Surface Warfare Center, Crane Division, Code OOL, Bldg 2, 300 Highway 361, Crane, IN 47522-5001.

FOR FURTHER INFORMATION CONTACT: Mr. Christopher Monsey, Naval Surface Warfare Center, Crane Division, Code OOL, Bldg 2, 300 Highway 361, Crane, IN 47522-5001, telephone 812-854-4100.

Authority: 35 U.S.C. 207, 37 CFR part 404.

Dated: April 19, 2011.
D.J. Werner
Lieutenant Commander, Office of the Judge Advocate General, U.S. Navy, Federal Register Liaison Officer.

[FR Doc. 2011-9993 Filed 4-25-11; 8:45 am]

BILLING CODE 3810-FF-P